DEFENSE NUCLEAR FACILITIES SAFETY BOARD

Sunshine Act Notice; Correction

AGENCY: Defense Nuclear Facilities Safety Board.

ACTION: Notice of public meeting; correction.

SUMMARY: The Defense Nuclear Facilities Safety Board published a document in the Federal Register of November 5, 2008, concerning notice of a public hearing and meeting on the Department of Energy's (DOE) and National Nuclear Security Administration's incorporation of safety into the design and construction of new DOE defense nuclear facilities and into major modification of existing facilities. The document contained one incorrect date.

FOR FURTHER INFORMATION CONTACT: Brian Grosner, General Manager, Defense Nuclear Facilities Safety Board, 625 Indiana Avenue, NW., Suite 700, Washington, DC 20004-2901, (800) 788-4016. This is a toll-free number.

Correction

In the Federal Register of November 5, 2008, in FR Doc. E8-26512, on page 65838, in the third column, lines 23 and 24, correct the date “March 27, 2007” to read: “March 22, 2007.”

Dated: November 5, 2008.
A.J. Eggenberger,
Chairman.

[FR Doc. E8-26696 Filed 11-5-08; 4:15 pm]

BILLING CODE 3670-01-P